ENVIRONMENTAL PROTECTION AGENCY

[EPA-HQ-OPP-2021-0377; FRL-9200-01-OCSPP]

Atrazine, Simazine, and Malathion; Cancellation Order for Certain Pesticide Registrations and Amendments to Terminate Uses

AGENCY: Environmental Protection Agency (EPA).

ACTION: Notice.

SUMMARY: This notice announces EPA's order for the cancellations and/or amendments to terminate uses, voluntarily requested by the registrants and accepted by the Agency, of the products listed in Tables 1 and 2 of Unit II, pursuant to the Federal Insecticide, Fungicide, and Rodenticide Act (FIFRA). This cancellation/use termination order follows a June 23, 2021 Federal Register Notice of Receipt of Requests from the registrants listed in Table 3 of Unit II to voluntarily cancel their registrations of certain products containing the pesticides atrazine and simazine, and/or to amend their atrazine, simazine, or malathion product registrations to terminate one or more uses. In the June 23, 2021 notice, EPA indicated that it would issue an order implementing the cancellations and/or amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and/or amendments to terminate uses. Any distribution, sale, or use of the products subject to this cancellation order is permitted only in accordance with the terms of this order, including any existing stocks provisions.

DATES: The cancellations and certain use terminations are effective November 1, 2021.

FOR FURTHER INFORMATION CONTACT: Carolyn Smith, Pesticide Re-Evaluation Division (7508P), Office of Pesticide Programs, Environmental Protection Agency, 1200 Pennsylvania Ave. NW, Washington, DC 20460-0001; telephone number: (202) 566-2273; email address: smith.carolyn@epa.gov.

SUPPLEMENTARY INFORMATION:

I. General Information

A. Does this action apply to me?

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0377, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744.

Due to the public health concerns related to COVID-19, the EPA Docket Center (EPA/DC) and Reading Room are closed to visitors with limited exceptions. The staff continues to provide remote customer service via email, phone, and webform. For the latest information on EPA/DC services and docket access, visit https://www.epa.gov/dockets.

II. What action is the agency taking?

This notice announces the cancellation and amendments to terminate uses, as requested by registrants, of products registered under FIFRA section 3 (7 U.S.C. 136a). These registrations are listed in sequence by registration number in Tables 1 and 2 of this unit.

Table 1—Atrazine and Simazine Product Cancellations
EPA registration No. | Product name | Chemical name
100-886 | Bicep Magnum Herbicide | Syngenta Crop Protection, LLC.
279-3449 | F9316-2 | FMC Corporation.
352-600 | DPXMX670 MT herbicide | E. I. du Pont de Nemours and Company.
352-723 | DuPont Breakfree ATZ Lite | E. I. du Pont de Nemours and Company.
352-724 | DuPont Breakfree ATZ Herbicide | E. I. du Pont de Nemours and Company.
352-893 | DuPont Breakfree NXT ATZ Herbicide | E. I. du Pont de Nemours and Company.
352-895 | DuPont Breakfree NXT ATZ Lite Herbicide | E. I. du Pont de Nemours and Company.
524-497 | MON 58442 Herbicide | Bayer CropScience LP.
524-509 | MON 78088 Herbicide | Bayer CropScience LP.
8660-12 | Herbicide Granules Formula A | United Industries Corporation.
9688-227 | Chemsico Herbicide Granules AN | Chemsico (Division of United Industries Corporation).
9688-274 | Chemsico Herbicide Granules LAH | Chemsico (Division of United Industries Corporation).
33270-13 | Tremor AT | Winfield Solutions, LLC.
33270-14 | Tremor AT Lite | Winfield Solutions, LLC.
34704-686 | Simazine 90 WDG | Loveland Products, Inc.
34704-687 | Simazine 4L Flowable Herbicide | Loveland Products, Inc.
34704-689 | Conifer 90 Herbicide | Loveland Products, Inc.
34704-690 | Clean Crop Atrazine 4L Turf & Conifer Herbicide | Loveland Products, Inc.
34704-728 | Shotgun Flowable Herbicide | Loveland Products, Inc.
34704-860 | Rifle Plus Herbicide | Loveland Products, Inc.
34704-892 | Bronze | Loveland Products, Inc.
34704-913 | SMZ 4L | Loveland Products, Inc.
34704-916 | Simazine 90 Herbicide | Loveland Products, Inc.
34704-950 | Cadence ATZ Herbicide | Loveland Products, Inc.
34704-952 | Cadence Lite ATZ Herbicide | Loveland Products, Inc.
34704-1041 | Slider ATZ | Loveland Products, Inc.
34704-1042 | Slider ATZ Lite | Loveland Products, Inc.
34704-1070 | LPI S-Metolachor + Atrazine | Loveland Products, Inc.
34704-1072 | LPI S-Metolachor + Atrazine Herbicide | Loveland Products, Inc.
42750-41 | Dicambazine | Albaugh, LLC.
42750-44 | Atrazine 4L | Albaugh, LLC.
42750-45 | Weed pro Atrazine 4L Herbicide | Albaugh, LLC.
42750-50 | Brox-AT Herbicide | Albaugh, LLC.
42750-53 | Albaugh Atrazine 90 DF | Albaugh, LLC.
55467-6 | Volley ATZ Lite Tenkoz Herbicide | Tenkoz, Inc.
55467-7 | Volley ATZ Tenkoz Herbicide | Tenkoz, Inc.
59639-106 | Atrazine 90 DF Herbicide | Valent U.S.A., LLC.
66222-280 | ADA 68702 | Makhteshim Agan of North America, Inc. (d/b/a ADAMA).
66222-281 | ADA 68703 | Makhteshim Agan of North America, Inc. (d/b/a ADAMA).
70506-232 | UPL Simazine 4L | UPL NA, Inc.
70506-233 | Simazine 90DF Herbicide | UPL NA, Inc.
KS040002 | Weed Pro Atrazine 4L Herbicide | Albaugh, LLC.
KS130001 | Atrazine 4L | Makhteshim Agan of North America, Inc. (d/b/a ADAMA).
SD100003 | Slider ATZ | Loveland Products, Inc.
SD100004 | Slider ATZ Lite | Loveland Products, Inc.
WA900005 | Clean Crop Simazine 4L Flowable Herbicide | Loveland Products, Inc.
WA200002 | Atrazine 4L | Loveland Products, Inc.

Table 2—Atrazine, Simazine, and Malathion Product Registration Amendments To Terminate Uses
Registration No. | Product name | Company | Uses to be terminated
100-497 | AAtrex® 4L Herbicide | Syngenta Crop Protection, LLC | Roadsides; Conservation Reserve Program (CRP) land; conifers including Christmas tree plantings; timber and forestry.
100-585 | AAtrex® Nine-O® Herbicide | Syngenta Crop Protection, LLC
100-1207 | Atrazine Technical | Syngenta Crop Protection, LLC
100-1235 | Atrazine Base Mix Manufacturing Use Product | Syngenta Crop Protection, LLC
100-1236 | Atrazine Wet Paste Manufacturing Use Product | Syngenta Crop Protection, LLC
100-1650 | Atrazine 4L MUP | Syngenta Crop Protection, LLC
100-1659 | Atrazine Nine-O® MUP | Syngenta Crop Protection, LLC
1381-158 | Atrazine 4L | Winfield Solutions, LLC | Roadsides; Conservation Reserve Program (CRP) land; conifers.
4787-5 | Fyfanon Technical | FMC Corporation | Mosquito larvicide; cull piles (including terms cull dumps, fruit dumps, and cull fruit and vegetable dumps).
5905-250 | Fyfanon 8 lb. Emulsion | Helena Agri-Enterprises, LLC | Cull piles (including terms cull dumps, fruit dumps, and cull fruit and vegetable dumps).
5905-470 | Atrazine 4L | Helena Agri-Enterprises, LLC | Roadsides; Conservation Reserve Program (CRP) land.
5905-522 | Atrazine 90 DF Herbicide | Helena Agri-Enterprises, LLC
9779-253 | Atrazine 90 DF | Winfield Solutions, LLC | Roadsides; Conservation Reserve Program (CRP) land; conifers.
9779-295 | Simazine 90DF | Winfield Solutions, LLC | Shelterbelt.
9779-296 | Simazine 4L | Winfield Solutions, LLC | Shelterbelt.
10163-21 | Malathion 8 | Gowan Company | Mosquito larvicide; cull piles (including terms cull dumps, fruit dumps, and cull fruit and vegetable dumps).
19713-217 | Drexel Malathion 5EC | Drexel Chemical Company | Mosquito larvicide; cull piles (including terms cull dumps, fruit dumps, and cull fruit and vegetable dumps).
19713-288 | Drexel Malathion ULV Insecticide | Drexel Chemical Company
19713-304 | Green Devil Spray | Drexel Chemical Company
19713-330 | Drexel Malathion 50% Emulsifiable | Drexel Chemical Company
19713-402 | Drexel Malathion Technical | Drexel Chemical Company
19713-540 | Drexel Malathion ULV 96.5% | Drexel Chemical Company
19713-565 | Atrazine Technical 2 | Drexel Chemical Company | Roadsides; Conservation Reserve Program (CRP); conifers including Christmas tree plantings; timber and forestry.
19713-566 | Drexel Atrazine Technical | Drexel Chemical Company | Roadsides; Conservation Reserve Program (CRP); conifers, Christmas tree plantations.
33270-9 | Atrazine 90 DF | Winfield Solutions, LLC | Roadsides; Conservation Reserve Program (CRP) land; conifers.
33270-10 | Atrazine 4L | Winfield Solutions, LLC
33270-24 | Tremor Atz Nxt | Winfield Solutions, LLC | Miscanthus and other non-food perennial bioenergy crops.
33270-25 | Tremor Atz Lite Nxt | Winfield Solutions, LLC
34704-452 | Malathion 8E Insecticide | Loveland Products, Inc. | Cull piles (including terms cull dumps, fruit dumps, and cull fruit and vegetable dumps)
34704-787 | Malathion Technical | Loveland Products, Inc | Mosquito larvicide; cull piles (including terms cull dumps, fruit dumps, and cull fruit and vegetable dumps).
35915-3 | Atrazine 90 Herbicide | Sipcam Agro USA, Inc | Roadsides; Conservation Reserve Program (CRP) land; conifers.
35915-14 | Oxon Italia Atrazine Technical II | Sipcam Agro USA, Inc | Roadsides; conifers including Christmas tree plantings; forestry.
47000-107 | Prozap Malathion 57% Emulsifiable Liquid | Neogen Corporation | Cull piles (including terms cull dumps, fruit dumps, and cull fruit and vegetable dumps).
55467-13 | Tenkoz Atrazine 4L Herbicide | Tenkoz, Inc | Roadsides; Conservation Reserve Program (CRP) land; conifers including Christmas tree plantings; timber and forestry; Miscanthus and other non-food perennial bioenergy crops.
66330-220 | Malathion 5 EC | UPL OpenAg | Cull piles (including terms cull dumps, fruit dumps, and cull fruit and vegetable dumps).
74530-85 | Fearless Xtra Herbicide | HELM Agro US, Inc | Miscanthus and other non-food perennial bioenergy crops.
74530-89 | Fearless Xtra 5.6L Herbicide | HELM Agro US, Inc
83529-87 | Sharda Acetochlor 29% + Atrazine 14.5% CS | Sharda USA, LLC | Miscanthus and other non-food perennial bioenergy crops.
83529-93 | Sharda Acetochlor 33.4% + Atrazine 26.9% SE | Sharda USA, LLC
83529-116 | Sharda Acetochlor 46.3% + Atrazine 18.3% SE | Sharda USA, LLC
89167-10 | AX ATZ 4L | Axion Ag Products, LLC | Roadsides; Conservation Reserve Program (CRP) land; conifers including Christmas tree plantings.
89167-30 | AX Acetozine 2 NG | Axion Ag Products, LLC | Miscanthus and other non-food perennial bioenergy crops.
89167-32 | AX Acetozine NG | Axion Ag Products, LLC | Miscanthus and other non-food perennial bioenergy crops.
89167-38 | AX ATZ 4L-2 Herbicide | Axion Ag Products, LLC | Roadsides; Conservation Reserve Program (CRP) land; conifers including Christmas tree plantings.
89168-29 | Liberty Atrazine 4L | Liberty Crop Protection, LLC | Roadsides; Conservation Reserve Program (CRP) land; conifers including Christmas tree plantings.
89168-32 | Liberty Atrazine 90 Herbicide | Liberty Crop Protection, LLC
89168-35 | Liberty ATZ 4L | Liberty Crop Protection, LLC
94143-1 | INATEK Atrazine Technical | INATEK, LLC | Roadsides; Conservation Reserve Program (CRP) land; and conifers.
94144-1 | Atrazine 90DF | Infinicrop, LLC | Roadsides; Conservation Reserve Program (CRP) land; conifers including Christmas tree plantings.
11773-1 | Cornbelt Atrazine 4L | Van Diest Supply Company | Roadsides; Conservation Reserve Program (CRP) land; conifers.
11773-13 | Cornbelt Atrazine 90 DF | Van Diest Supply Company | Roadsides; conifers.
33270-26 | Simazine 90DF | Winfield Solutions, LLC | Shelterbelt.
33270-27 | Simazine 4L | Winfield Solutions, LLC | Shelterbelt.
KS120001 | Tenkoz Atrazine 4L Herbicide | Tenkoz, Inc | Roadsides; Conservation Reserve Program (CRP) land; conifers including Christmas tree plantings; timber and forestry; Miscanthus and other non-food perennial bioenergy crops.

Table 3 of this unit includes the names and addresses of record for all registrants of the products in Tables 1 and 2 of this unit, in sequence by EPA company number. This number corresponds to the first part of the EPA registration numbers of the products listed in Tables 1 and 2 of this unit.

Table 3—Registrants of Cancelled and Amended Products
EPA company No. | Company name and address
100 | Syngenta Crop Protection, LLC, P. O. Box 18300, Greensboro, NC 27419.
279 | FMC Corporation, 2929 Walnut Street, Philadelphia, PA 19104.
352 | E. I. du Pont de Nemours and Company, 9330 Zionsville Road, Indianapolis, IN 46268.
524 | Bayer CropScience LP, 800 North Lindbergh Blvd., St. Louis, MO 63167.
1381 | Winfield Solutions, LLC, P.O. Box 64589, MS 5705, St. Paul, MN 55164.
4787 | FMC Corporation, 2929 Walnut Street, Philadelphia, PA 19104.
5905 | Helena Agri-Enterprises, LLC, 225 Schilling Blvd., Suite 300, Collierville, TN 38017.
8660 | United Industries Corp., D/B/A Sylorr Plant Corp., P.O. Box 142642, St. Louis, MO 63114-0642.
9688 | Chemsico, Division of United Industries Corporation, P.O. Box 142642, St. Louis, MO 63114-0642.
9779 | Winfield Solutions, LLC, P.O. Box 64589, MS 5705, St. Paul, MN 55164.
10163 | Gowan Company, P.O. Box 5569, Yuma, AZ 85366.
11773 | Van Diest Supply Company, PO Box 610, Webster City, IA 50595-0610.
19713 | Drexel Chemical Company, 1700 Channel Avenue, P.O. Box 13327, Memphis, TN, 38113.
33270 | Winfield Solutions, LLC, P.O. Box 64589, MS 5705, St. Paul, MN 55164.
34704 | Loveland Products, Inc. (Nutrien), 3005 Rocky Mountain Ave, Loveland, CO 80538.
35915 | Sipcam Agro USA, Inc., 2525 Meridian Parkway, Suite 350, Durham, NC 27713.
42750 | Albaugh, LLC, P. O. Box 2127, Valdosta, GA 31604.
47000 | Neogen Corporation, 620 Lesher Place, Lansing, MI 48912.
55467 | Tenkoz, Inc., 1725 Windward Concourse, Suite 410, Alpharetta, GA 30005-1784.
59639 | Valent U.S.A. LLC, 4600 Norris Canyon Road, P. O. Box 5075, Walnut Creek, CA 94596.
66222 | Makhteshim Agan of North America, Inc. (d/b/a ADAMA), 3120 Highwoods Blvd., Suite 100, Raleigh, NC 27312.
66330 | UPL NA, Inc., 630 Freedom Business Center, Suite 402, King of Prussia, PA 19406.
70506 | UPL Open Ag, 630 Freedom Business Center, Suite 402, King of Prussia, PA 19406.
74530 | HELM Agro US, Inc., 401 East Jackson Street, Suite 1400, Tampa, FL 33602.
83529 | Sharda USA, LLC, 34 E. Germantown Pike #227, Norristown, PA 19401.
89167 | Axion Ag Products, LLC, 1880 Fall River Drive, Suite 100, Loveland, CO 80538.
89168 | Liberty Crop Protection, LLC, 1880 Fall River Drive, Suite 100, Loveland, CO 80538.
94143 | INATEK, LLC, 4110 136th St. Ct. NW, Gig Harbor, WA 98332.
94144 | Infinicrop LLC, 4110 136th St. Ct. NW, Gig Harbor, WA 98332.

III. Summary of Public Comments Received and Agency Response to Comments

During the public comment period provided, EPA received no comments in response to the June 23, 2021 Federal Register notice (86 FR 32922) announcing the Agency's receipt of the requests for voluntary cancellations and/or amendments to terminate uses of products listed in Tables 1 and 2 of Unit II.

IV. Cancellation Order

Pursuant to FIFRA section 6(f) (7 U.S.C. 136d(f)), EPA hereby approves the requested cancellations and/or amendments to terminate uses of the registrations identified in Tables 1 and 2 of Unit II. Accordingly, the Agency hereby orders that the product registrations identified in Tables 1 and 2 of Unit II are canceled and/or amended to terminate the affected uses. The effective date of the cancellations and amendments listed in Tables 1 and 2 that are the subject of this notice is November 1, 2021. Any distribution, sale, or use of existing stocks of the products identified in Tables 1 and 2 of Unit II in a manner inconsistent with any of the provisions for disposition of existing stocks set forth in Unit VI will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of June 23, 2021 (86 FR 32922) (FRL-10025-04). The comment period closed on July 23, 2021.

VI. Provisions for Disposition of Existing Stocks

Existing stocks are those stocks of registered pesticide products which are currently in the United States and which were packaged, labeled, and released for shipment prior to the effective date of the cancellation and/or use termination action. The existing stocks provisions for the products subject to this order are as follows.

The registrants may continue to sell and distribute existing stocks of products listed in Table 1 of Unit II until November 1, 2022, which is 1 year after the publication of the cancellation/use termination order in the Federal Register. Thereafter, the registrants are prohibited from selling or distributing products listed in Table 1, except for export in accordance with FIFRA section 17 (7 U.S.C. 136o), or proper disposal.

EPA has recently approved or will shortly approve product labels reflecting the requested amendments to terminate uses listed in Table 2 of Unit II and is allowing registrants to continue to sell or distribute products under the previously approved labeling for a period of 18 months from the label approval date. Thereafter, registrants will be prohibited from selling or distributing the products whose labels include the terminated uses identified in Table 2 of Unit II, except for export consistent with FIFRA section 17 or for proper disposal. Amended product labels can be viewed on EPA's Pesticide Product Label System (see https://www.epa.gov/pesticide-labels/pesticide-product-label-system-ppls-more-information).

Persons other than the registrants may sell, distribute, or use existing stocks of the canceled products and products whose labels include the terminated uses listed in Tables 1 and 2, respectively, of Unit II until existing supplies are exhausted, provided that such sale, distribution, or use is consistent with the terms of the previously approved labeling on, or that accompanied, the canceled products and products whose labels include the terminated uses.

Authority: 7 U.S.C. 136 et seq.

Dated: October 26, 2021.
Mary Reaves,
Director, Pesticide Re-Evaluation Division, Office of Pesticide Programs.

[FR Doc. 2021-23658 Filed 10-29-21; 8:45 am]

BILLING CODE 6560-50-P